DEPARTMENT OF COMMERCE

Census Bureau

2007 Economic Census Classification Report for Construction, Manufacturing, and Mining Sectors

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 27, 2005.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Scott P. Handmaker, U.S. Census Bureau, Room 1656, Building 3, Washington, DC 20233, and 301-763-7107 or e-mail at Scott.P.Handmaker@census.gov.

SUPPLEMENTARY INFORMATION:

I. Abstract

The Census Bureau is the preeminent collector of timely, relevant and quality data about the people and economy of the United States. Economic data are the Census Bureau's primary program commitment during non-decennial census years. The economic census, conducted under authority of Title 13 U.S.C., is the primary source of facts about the structure and functioning of the Nation's economy and features unique industry and geographic detail. Economic census statistics serve as part of the framework for the national accounts and provide essential information for government, business and the general public.

Prior to conducting the 2007 Economic Census, the Census Bureau needs to collect a North American Industry Classification System (NAICS) code from selected construction establishments. Those establishments selected have a partially assigned NAICS code on the Census Bureau's Business Register. Collecting this classification information will ensure the Economic Census mailing list for the construction sector is complete and accurate prior to the mailing of the 2007 Economic Census. As a result of this collection, the Census Bureau will be able to select an efficient sample, thus minimizing the reporting burden that we impose on construction establishments.

Additionally, this questionnaire will be used to collect a complete and reliable NAICS code for partially classified manufacturing and mining establishments. This will ensure these establishments are tabulated in the correct detailed industry for the 2007 Economic Census. Many of these establishments will not receive any further economic census mailings because of their small size, and this will be our only chance to obtain this detailed industry classification. Economic data for these cases could be lost if this data were not collected.

The failure to collect this classification information will have an adverse effect on the quality and usefulness of economic statistics and severely hamper the Census Bureau's ability to effectively classify establishments under NAICS in the Economic Census and other survey programs.

The Census Bureau is not requesting any economic data in this collection. The collection of this NAICS information will greatly reduce processing costs and ease reporting burden for the 2007 Economic Census data collection.

II. Method of Collection

The Census Bureau will select establishments to receive this survey from the Census Bureau's Business Register. The Census Bureau will mail the NC-99026 to those establishments from the following groups: (1) Any single unit construction establishment that is partially coded, (2) any single unit manufacturing establishment that is partially coded, or (3) any single unit mining establishment that is partially coded. The NC-99026 will be used to assign a valid NAICS code.

The NC-99026 will contain a list of codes and descriptions describing either diverse construction, manufacturing, or mining activities. Respondents check the box that best describes their business activity or describe their business activity if no box is appropriate.

III. Data

OMB Number: Not Available.

Form Number: NC-99026.

Type of Review: Regular Review.

Affected Public: Businesses or Other for Profit Institutions, Small Businesses or Organizations, Non-profit Institutions, State or Local Governments.

Estimated Number of Respondents: 50,000.

Estimated Time Per Response: 5 minutes.

Estimated Total Annual Burden Hours: 4,167.

Estimated Total Annual Cost: $101,716.

Respondent's Obligation: Mandatory.

Legal Authority: Title 13, U.S.C., Sections, 131 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 20, 2005.
Madeleine Clayton,
Management Analyst, Office of the Chief Information Officer.

[FR Doc. 05-21327 Filed 10-25-05; 8:45 am]

BILLING CODE 3510-07-P